DEPARTMENT OF DEFENSE

Office of the Secretary

[Docket ID: DoD-2022-OS-0110]

Proposed Collection; Comment Request

AGENCY: Office of the Under Secretary of Defense for Personnel and Readiness (OUSD(P&R)), Department of Defense (DoD).

ACTION: 60-Day information collection notice.

SUMMARY: In compliance with the Paperwork Reduction Act of 1995, the Office of the Under Secretary of Defense for Personnel and Readiness announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 31, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Human Resources Activity, 4800 Mark Center Drive, Suite 08F05, Alexandria, VA 22350, LaTarsha Yeargins, 571-372-2089.

SUPPLEMENTARY INFORMATION: Title; Associated Form; and OMB Number: Department of Defense Survivor Family Member Survey; OMB Control Number 0704-SFMS.

Needs and Uses: The National Defense Authorization Act of 2006 (Pub. L. 109-163) requires data to be collected on the quality of casualty assistance provided to next of kin of military decedents. Beginning in early 2010, the DoD began inviting all primary next of kin to participate in a survey that is designed to measure the effectiveness of its casualty assistance program and the degree of satisfaction of those family members provided such assistance. In 2019, DoD began surveying secondary next of kin, which accounts for the increase in parent and guardian participation. Family responses are held confidentially and will not be reported individually, unless specifically requested by the respondent, but rather are combined with the responses of other survey participants. The aggregate findings from the survey are reported to senior leadership along with recommendations on how we might better serve those who are receiving assistance.

Affected Public: Individuals or households.

Annual Burden Hours: 270 hours.

Number of Respondents: 540.

Responses per Respondent: 1.

Annual Responses: 540.

Average Burden per Response: 30 minutes.

Frequency: On occasion.

Dated: August 24, 2022.
Aaron T. Siegel,
Alternate OSD Federal Register Liaison Officer, Department of Defense.

[FR Doc. 2022-18621 Filed 8-29-22; 8:45 am]

BILLING CODE 5001-06-P